DEPARTMENT OF THE TREASURY

Internal Revenue Service

Open Meeting of the Area 2 Committee of the Taxpayer Advocacy Panel (Including the States of Delaware, North Carolina, South Carolina, New Jersey, Maryland, Pennsylvania, Virginia, and West Virginia and the District of Columbia)

AGENCY: Internal Revenue Service (IRS), Treasury.

ACTION: Notice.

SUMMARY: An open meeting of the Area 2 Committee of the Taxpayer Advocacy Panel will be conducted (via teleconference). The Taxpayer Advocacy Panel is soliciting public comments, ideas, and suggestions on improving customer service at the Internal Revenue Service.

DATES: The meeting will be held Wednesday, September 19, 2007, at 2:30 p.m. ET.

FOR FURTHER INFORMATION CONTACT: Inez E. De Jesus at 1-888-912-1227, or 954-423-7977.

SUPPLEMENTARY INFORMATION: Notice is hereby given pursuant to section 10(a)(2) of the Federal Advisory Committee Act, 5 U.S.C. App. (1988) that an open meeting of the Area 2 Committee of the Taxpayer Advocacy Panel will be held Wednesday, September 19, 2007 at 2:30 p.m. ET via a telephone conference call. Due to limited conference lines, notification of intent to participate in the telephone conference call meeting must be made with Inez E. De Jesus. Ms. De Jesus can be reached at 1-888-912-1227 or 954-423-7977, or post comments to the Web site: http://www.improveirs.org. If you would like to have the TAP consider a written statement, please call 1-888-912-1227 or 954-423-7977, or write to Inez E. De Jesus, TAP Office, 1000 South Pine Island Rd., Suite 340, Plantation, FL 33324

The agenda will include the following: Various IRS issues.

Dated: August 20, 2007.
John Fay,
Acting Director, Taxpayer Advocacy Panel.

[FR Doc. E7-16721 Filed 8-23-07; 8:45 am]

BILLING CODE 4830-01-P